DEPARTMENT OF THE INTERIOR

Fish and Wildlife Service

[FWS-R9-MB-2011-N132; 91200-1231-00AP-M4]

Proposed Information Collection; Mourning Dove Call Count Survey

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on January 31, 2012. We may not conduct or sponsor and a person is not required to respond to a collection of information unless it displays a currently valid OMB control number.

DATES: To ensure that we are able to consider your comments on this IC, we must receive them by August 29, 2011.

ADDRESSES: Send your comments on the IC to the Service Information Collection Clearance Officer, Fish and Wildlife Service, MS 2042-PDM, 4401 North Fairfax Drive, Arlington, VA 22203 (mail or hand delivery); or INFOCOL@fws.gov (e-mail). Please include “1018-0010” in the subject line of your comments.

FOR FURTHER INFORMATION CONTACT: To request additional information about this IC, contact Hope Grey at 703-358-2482 (telephone) or INFOCOL@fws.gov (e-mail).

SUPPLEMENTARY INFORMATION:

I. Abstract

The Migratory Bird Treaty Act (16 U.S.C. 703-712) and Fish and Wildlife Act of 1956 (16 U.S.C. 742a-754j-2) designate the Department of the Interior as the primary agency responsible for:

• Wise management of migratory bird populations frequenting the United States, and

• Setting hunting regulations that allow for the well-being of migratory bird populations.

These responsibilities dictate that we gather accurate data on various characteristics of migratory bird populations.

The Mourning Dove Call Count Survey is an essential part of the migratory bird management program. The survey is a cooperative effort between the Service and State wildlife agencies and local and tribal biologists. Each spring, State, Service, local, and tribal biologists conduct the survey to provide the necessary data to determine the population status of the mourning dove. If this survey were not conducted, we would not be able to properly determine the population status of mourning doves prior to setting regulations. The Service and the States use the survey results to:

• Develop annual regulations for hunting mourning doves,

• Plan and evaluate dove management programs, and

• Provide specific information necessary for dove research.

II. Data

OMB Control Number: 1018-0010.

Title: Mourning Dove Call Count Survey.

Service Form Number(s): 3-159.

Type of Request: Extension of currently approved collection.

Description of respondents: State, local, and tribal employees.

Respondent's Obligation: Voluntary.

Frequency of Collection: Annually.

Estimated Annual Number of Responses: 912.

Estimated Total Annual Burden Hours: 3,314 hours. We believe 80 percent of the respondents will enter data electronically, with an average reporting burden of 3 hours and 40 minutes per respondent. For all others, we estimate the reporting burden to be 3.5 hours per respondent.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: June 23, 2011.
Tina A. Campbell,
Chief, Division of Policy and Directives Management, U.S. Fish and Wildlife Service.

[FR Doc. 2011-16281 Filed 6-28-11; 8:45 am]

BILLING CODE 4310-55-P